NATIONAL SCIENCE FOUNDATION

Business and Operations Advisory Committee; Notice of Meeting

In accordance with Federal Advisory Committee Act (Pub. L. 92-463, as amended), the National Science Foundation announces the following meeting:

Name: Business and Operations Advisory Committee (9556).

Date/Time: May 18, 2006; 1 p.m. to 5:30 p.m. (EST). May 19, 2006; 8 a.m. to 12:30 p.m. (EST).

Place: National Science Foundation, 4201 Wilson Boulevard, Room 375.

Type of Meeting: Open.

Contact Person: Mary Ann Birchett, National Science Foundation, 4201 Wilson Boulevard, Arlington, VA 22230. (703) 292-8100.

Purpose of Meeting: To provide advice concerning issues related to the oversight, integrity, development and enhancement of NSF's business operations.

Agenda:

May 18, 2006

P.M.: Welcome and Introduction of new members; Updates—Office of Budget, Finance, and Award Management, Office of Information and Resource Management, Chief Information Officer activities. Presentation and Discussion—Workforce Planning; Organizational Excellence Assessment; NSF Strategic Plan; Committee Discussion.

May 19, 2006

A.M.: Presentation and Discussion—Organizational Excellence Assessment Follow-up; Report from Facilities Subcommittee; Merit Review Update; Committee Discussion; Meeting with NSF Deputy Director; Committee Discussion; Planning for next meeting; feedback; other business.

Date: April 11, 2006.
Susanne Bolton,
Committee Management Officer.

[FR Doc. 06-3603 Filed 4-13-06; 8:45 am]

BILLING CODE 7555-01-M